DEPARTMENT OF LABOR

Mine Safety and Health Administration

Petitions for Modification

The following parties have filed petitions to modify the application of existing safety standards under section 101(c) of the Federal Mine Safety and Health Act of 1977.

1. Monterey Coal Company

[Docket No. M-2002-113-C]

Monterey Coal Company, 14300 Brushy Mound Road, Carlinville, Illinois 62626 has filed a petition to modify the application of 30 CFR 75.350 (Air courses and belt haulage entries) at its No. 1 Mine (MSHA I.D. No. 11-00726) located in Macoupin County, Illinois. The petitioner requests a modification of the existing standard to allow belt air to be used to ventilate working places from a location inby the furthest inby conveyor drive for the remaining length of the panels. The petitioner states that during panel development, the location is inby the main conveyor drive near the belt head, and during longwall mining, the location is inby the tripper/booster drive, usually positioned not greater than 8,000 feet inby the belt head. The petitioner proposes to install a carbon monoxide monitoring system as an early warning fire detection system in all belt entries used to course intake air to a working place. The petitioner asserts that the proposed alternative method would provide at least the same measure of protection as the existing standard.

2. PC Contracting, Inc.

[Docket No. M-2002-114-C]

PC Contracting, Inc., P.O. Box 1630, Barbourville, Kentucky 40906 has filed a petition to modify the application of 30 CFR 75.380(f)(4)(i) (Escapeways; bituminous and lignite mines) at its PC #2 Mine (MSHA I.D. No. 15-18304) located in Knox County, Kentucky. The petitioner proposes to use two ten-pound portable chemical fire extinguishers in the operator's deck of each Mescher tractor operated at the PC #2 mine. The petitioner states that the equipment operator will inspect each fire extinguisher on a daily basis prior to entering the primary escapeway. The petitioner further states that a record of the daily inspection will be kept at the mine, and a sufficient number of spare fire extinguishers will be maintained at the mine in case a defective fire extinguisher is detected. The petitioner asserts that the proposed alternative method would provide at least the same measure of protection as the existing standard.

3. PC Contracting, Inc.

[Docket No. M-2002-115-C]

PC Contracting, Inc., P.O. Box 1630, Barbourville, Kentucky 40906 has filed a petition to modify the application of 30 CFR 75.342 (Methane monitors) at its PC #2 Mine (MSHA I.D. No. 15-18304) located in Knox County, Kentucky. The petitioner proposes to use hand-held continuous-duty methane and oxygen indicators in lieu of machine mounted methane monitors on three-wheel tractors with drag bottom buckets. The petitioner has listed specific terms and conditions that would be followed when implementing its proposed alternative method at the PC #2 Mine. The petitioner asserts that this petition is based on the safety of the miners and not primarily from an economic standpoint and that the proposed alternative method provides no less than the same measure of protection as the existing standard.

4. Energy West Mining Company

[Docket No. M-2002-116-C]

Energy West Mining Company, Box 310, 15 North Main, Huntington, Utah 84528 has filed a petition to modify the application of 30 CFR 75.701 (Grounding metallic frames, casings, and other enclosures of electric equipment) at its Deer Creek Mine (MSHA I.D. No. 42-00121) located in Emery County, Utah. This standard requires frames of electric equipment to be grounded using approved methods. The petitioner requests a modification of the standard to allow the electrical grounding requirements for portable diesel-driven electric generators to be waived based on the use of ground fault detection, ground wire monitoring and other circuit protection means, such as short circuit, overcurrent and undervoltage protection. The petitioner asserts that the proposed alternative method would provide at least the same measure of protection as the existing standard.

5. Energy West Mining Company

[Docket No. M-2002-117-C]

Energy West Mining Company, Box 310, 15 North Main, Huntington, Utah 84528 has filed a petition to modify the application of 30 CFR 75.901(a) (Protection of low- and medium-voltage three-phase circuits used underground) at its Deer Creek Mine (MSHA I.D. No. 42-00121) located in Emery County, Utah. This standard requires low- and medium-voltage three-phase alternating-current circuits to contain either a direct or a derived neutral which is grounded through a suitable resistor at the power center. The petitioner requests a modification of the standard to allow the electrical grounding requirements for portable diesel-driven electric generators to be waived based on the use of ground fault detection, ground wire monitoring, and other circuit protection means, such as short circuit, overcurrent and undervoltage protection. The petitioner asserts that the proposed alternative method would provide at least the same measure of protection as the existing standard.

6. Canyon Fuel Company, LLC

[Docket No. M-2002-118-C]

Canyon Fuel Company, LLC, HC 35 Box 380, Helper, Utah 84526-9804 has filed a petition to modify the application of 30 CFR 75.507 (Power connection points) at its Skyline Mine No. 3 (I.D. No. 42-01566) located in Carbon County, Utah. The petitioner requests a modification of the existing standard to allow the installation and use of a non-permissible, 4,160-volt AC power submersible pump in a cased borehole which penetrates an abandoned and sealed portion of the Skyline Mine No. 3, Level 2 workings. The petitioner states that the pump will be located above the roof horizon and the electrical components of the pump will be separated from the atmosphere of the sealed and abandoned area, and the pump will be under water continuously where water has accumulated above the level of the roof up into the borehole. The petitioner further states that the electrical equipment that provides power to the pump is located on the surface. The petitioner asserts that the use of a non-permissible pump will enhance the petitioner's ability to control water levels in abandoned and sealed sections of the mine; that application of the existing standard would result in a diminution of safety to the miners; and that the proposed alternative method would provide at least the same measure of protection as the existing standard.

7. H & M Coal Company

[Docket No. M-2002-119-C]

H & M Coal Company, 48 Meadowview Road, Pine Grove, Pennsylvania 17963 has filed a petition to modify the application of 30 CFR 49.2 (Availability of mine rescue teams) at its Rocky top Mine (MSHA I.D. No. 36-09072) located in Schuylkill County, Pennsylvania. The petitioner requests a modification of the standard to permit the reduction of two mine rescue teams with five members and one alternate each, to two mine rescue teams of three members with one alternate for either team. The petitioner asserts that application of the existing standard would result in a diminution of safety to the miners and that the proposed alternative method would provide at least the same measure of protection as the existing standard.

8. H & M Coal Company

[Docket No. M-2002-120-C]

H & M Coal Company, 48 Meadowview Road, Pine Grove, Pennsylvania 17963 has filed a petition to modify the application of 30 CFR 75.1100-2(a) (Quantity and location of firefighting equipment) at its Rocky Top Mine (MSHA I.D. No. 36-09072) located in Schuylkill County, Pennsylvania. The petitioner requests a modification of the standard to permit use of portable fire extinguishers only to replace existing requirements where rock dust, water cars, and other water storage equipped with three (3) ten quart pails is not practical. The petitioner proposes to use two (2) portable fire extinguishers near the slope bottom, and an additional portable fire extinguisher within 500 feet of the working face for equivalent fire protection for the Rocky Top Mine. The petitioner asserts that the proposed alternative method would provide at least the same measure of protection as the existing standard.

9. H & M Coal Company

[Docket No. M-2002-121-C]

H & M Coal Company, 48 Meadowview Road, Pine Grove, Pennsylvania 17963 has filed a petition to modify the application of 30 CFR 75.1200(d) & (i) (Mine map) to its Rocky Top Mine (MSHA I.D. No. 36-09072) located in Schuylkill County, Pennsylvania. The petitioner proposes to use cross-sections instead of contour lines through the intake slope, at locations of rock tunnel connections between veins, and at 1,000 foot intervals of advance from the intake slope. The petitioner also proposes to limit the required mapping of the mine workings above and below to those present within 100 feet of the vein being mined except those veins that are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings that fluctuate considerably. The petitioner asserts that the proposed alternative method would provide at least the same measure of protection as the existing standard.

10. H & M Coal Company

[Docket No. M-2002-122-C]

H & M Coal Company, 48 Meadowview Road, Pine Grove, Pennsylvania 17963 has filed a petition to modify the application of 30 CFR 75.1202 and 30 CFR 75.1202-1(a) (Temporary notations, revisions, and supplements) to its Rocky Top Mine (MSHA I.D. No. 36-09072) located in Schuylkill County, Pennsylvania. The petitioner proposes to revise and supplement mine maps annually instead of every 6 months as required, and to update maps daily by hand notations. The petitioner also proposes to conduct surveys prior to commencing retreat mining and whenever either a drilling program under 30 CFR 75.388 or plan for mining into inaccessible areas under 30 CFR 75.389 is required. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before February 10, 2003. Copies of these petitions are available for inspection at that address.

Dated at Arlington, Virginia this 3rd day of January 2003.
Marvin W. Nichols, Jr.,
Director, Office of Standards, Regulations, and Variances.

[FR Doc. 03-446 Filed 1-9-03; 8:45 am]

BILLING CODE 4510-43-P